DEPARTMENT OF THE INTERIOR

National Park Service

[NPS-WASO-NRNHL-DTS#-32446; PPWOCRADI0, PCU00RP14.R50000]

National Register of Historic Places; Notification of Pending Nominations and Related Actions

AGENCY: National Park Service, Interior.

ACTION: Notice.

SUMMARY: The National Park Service is soliciting electronic comments on the significance of properties nominated before August 7 2021, for listing or related actions in the National Register of Historic Places.

DATES: Comments should be submitted electronically by September 3, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 7, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

KEY: State, County, Property Name, Multiple Name (if applicable), Address/Boundary, City, Vicinity, Reference Number.

ARKANSAS

Conway County

I-40 Overpass, Fish Lake Rd. over I-40, Blackwell, SG100006920

Drew County

Arkansas Agricultural and Mechanical College Student Union, 346 University Dr., Monticello, SG100006921

Garland County

Jackson, Dr. Will W. and Helen B., House, 132 Lake Hamilton Dr., Hot Springs, SG100006923

Independence County

Batesville Overpass, AR 233 over Union Pacific RR and Miller Cr., Batesville, SG100006924

Monroe County

United States Post Office, 201 North Main St., Brinkley, SG100006925

Polk County

Heathcliff Cabin, East End of Maintenance Ln., Mena vicinity, SG100006926

Pope County

Russellville West Overpass, US 64 (West Main St.) over the Union Pacific RR Line, Russellville, SG100006927

Prairie County

Des Arc High School Home Economics Building, (New Deal Recovery Efforts in Arkansas MPS), 708 Main St, Des Arc, MP100006928

Pulaski County

Kerby, Alton and Ruby Mae, House, 532 Skyline Dr., North Little Rock, SG100006929

Veterans Administration Hospital

(United States Third Generation Veterans Hospitals, 1946-1958 MPS), 300 East Roosevelt Rd., Little Rock, MP100006930

Stone County

Lancaster, Albert and Almeda, House, 306 East Main St., Mountain View, SG100006931

Union County

Rock Island Railroad Overpass, US 82 (East Hillsboro St.) over Union Pacific RR Line, El Dorado, SG100006932

Washington County

Anderson-Taylor House, 1599 West Halsell Rd., Fayetteville, SG100006933

CALIFORNIA

Orange County

Consolidated Orange Growers Precooling & Ice Plant, 160 South Cypress St., Orange, SG100006912

San Bernardino County

Ontario Baseball Park, SE of North Grove Ave. and East 4th St. intersection (NE corner John Galvin Park), Ontario, SG100006913

San Francisco County

Hobart Building, 582-592 Market St., San Francisco, SG100006911

Sonoma County

Flamingo Hotel, 2777 4th St., Santa Rosa, SG100006937

GEORGIA

Pulaski County

R. J. Taylor Memorial Hospital, 161 Commerce St., Hawkinsville, SG100006907

IOWA

Allamakee County

Yellow River State Forest Fire Tower, Fire Tower Rd., Yellow River State Forest, Harpers Ferry vicinity, SG100006909

MICHIGAN

Allegan County

Wayland Downtown Historic District, Generally Main St. Between Maple and Pine Sts., and Superior St. Between Church and Forest Sts., Wayland, SG100006916

Marquette County

Negaunee Downtown Historic District_, Generally, Peck St. to Rail St. and Tobin St. to North Teal Lake Ave., Negaunee, SG100006934

MISSISSIPPI

Hinds County

Building at 733 North State Street, 733 North State St., Jackson, SG100006899

Lee County

Baldwyn Medical Group, 300 Mill St., Baldwyn, SG100006895

MISSOURI

Jackson County

Sanford B. Ladd School, (Kansas City, Missouri School District Pre-1970 MPS), 3640 Benton Bvld., Kansas City, MP100006918

NORTH CAROLINA

Buncombe County

South Asheville Cemetery and St. John `A' Baptist Church, 20 Dalton St., Asheville, SG100006903

Graham County

Robbinsville Downtown Historic District, North and South Main St., Moose Branch Rd., Dula St., Laura St., Circle St., and East Main St., Robbinsville, SG100006902

OHIO

Hamilton County

Mercantile Library Building, 414 Walnut St., Cincinnati, SG100006914

OKLAHOMA

Oklahoma County

Jurhee Apartments, 1312-1316_North Francis Ave., Oklahoma City, SG100006905

Pachyderm Building for the Lincoln Park Zoo, 2000 Remington Place, Oklahoma City, SG100006906

PUERTO RICO

Adjuntas Municipality

Carretera Num. 6, Road #6, Adjuntas, SG100006919

Arecibo Municipality

Carretera Num. 6, Road #6, Arecibo vicinity, SG100006919

Ponce Municipality

Carretera Num. 6, Road #6, Ponce vicinity, SG100006919

Utuado Municipality

Carretera Num. 6, Road #6, Utuado vicinity, SG100006919

UTAH

Cache County

Watterson, William, Jr., and Caroline, House, 449 West 100 North, Logan, SG100006917

Borden Company Plant, 290 South 400 West, Logan, SG100006935

Utah County

Amanda Knight Hall, 42 East 800 North, Provo, SG100006910

VIRGINIA

Westmoreland County

Colonial Beach Commercial Historic District, Colonia Ave from Lynnhaven Ave to Potomac R.; Washington Ave. from Boundary St., Irving Ave., Wilder Ave, and Hawthorn St.; and Boundary Ave to Beach Terrace from Hawthorn St. with exclusions. Colonial Beach, SG100006984

WASHINGTON

King County

University National Bank Building, 4500 University Way NE, Seattle, SG100006904

Hotel Sorrento, 900 Madison St., Seattle, SG100006936

WISCONSIN

Winnebago County

Smith School, 1745 Oregon St., Oshkosh, SG100006898

An owner objection has been received for the following resource:

CALIFORNIA

Los Angeles County

Fairfax Theatre, 7901-09 Beverly Blvd., 301-21 Fairfax Ave., Los Angeles, SG100006908

A request to move has been received for the following resource:

VERMONT

Addison County

New Haven Junction Depot, North St., New Haven, MV78000226

Additional documentation has been received for the following resources:

ARKANSAS

Garland County

Perry Plaza Court Historic District (Additional Documentation), (Arkansas Highway History and Architecture MPS), 1007 Park Ave., Hot Springs, AD04000012

INDIANA

Vanderburgh County

Evansville Downtown Historic District (Additional Documentation), Roughly Main St. between 2nd St. and Martin Luther King Jr. Blvd., 4th St., between Sycamore and Chestnut Ss., Evansville, AD00000197

Busse House (Additional Documentation), (Downtown Evansville MRA), 120 SE 1st St., Evansville, AD82000084

Cadick Apartments (Plaza Building) (Additional Documentation), (Downtown Evansville MRA), 118 SE 1st St., Evansville, AD82000085

Central Library (Additional Documentation), (Downtown Evansville MRA), 22 SE 5th St., Evansville, AD82000086

Citizens National Bank (Additional Documentation), (Downtown Evansville MRA), 329 Main St., Evansville, AD82000087

Evansville Furniture Exchange-Court Building (Additional Documentation), (Downtown Evansville MRA), 123-125 NW 4th St., Evansville, AD82000088

Eagles Home (Additional Documentation), (Downtown Evansville MRA), 221 NW 5th St., Evansville, AD82000090

Evansville Brewing Company (Additional Documentation), (Downtown Evansville MRA), 401 NW 4th St., Evansville, AD82000091

Evansville Journal News (Additional Documentation), (Downtown Evansville MRA), 7-11 NW 5th St., Evansville, AD82000092

Albion Flats (Additional Documentation), (Downtown Evansville MRA), 701 Court St., Evansville, AD82000093

American Trust and Savings Bank (Indiana Bank) (Additional Documentation), (Downtown Evansville MRA), 524-530 Main St, Evansville, AD82000094

Geiger, Fred, and Sons National Biscuit Company (Additional Documentation), (Downtown Evansville MRA), 401 NW 2nd St, Evansville, AD82000096

German Bank (Additional Documentation), (Downtown Evansville MRA), 301-303 Main St., Evansville, AD82000097

Harding and Miller Music Company (Additional Documentation), (Downtown Evansville MRA), 518-520 Main St., Evansville, AD82000098

Indiana Bell Building (Additional Documentation), (Downtown Evansville MRA), 129-133 NW 5th St., Evansville, AD82000103

Ingle Terrace (Additional Documentation), (Downtown Evansville MRA), 609-619 Ingle St., Evansville, AD82000104

Leich, Charles, and Company (Additional Documentation), (Downtown Evansville MRA), 420 NW 5th St., Evansville, AD82000106

Masonic Temple (Additional Documentation), (Downtown Evansville MRA), 301 Chestnut St., Evansville, AD82000108

McCurdy Hotel (Additional Documentation), (Downtown Evansville MRA), 101-111 SE 1st St., Evansville, AD82000109

Montgomery Ward Building (Additional Documentation), (Downtown Evansville MRA), 517 Main St., Evansville, AD82000110

Hulman Building [Morris Plan (Central Union Bank)] (Additional Documentation), (Downtown Evansville MRA), 20 NW 4th St., Evansville, AD82000111

National City Bank (Additional Documentation), (Downtown Evansville MRA), 227 Main St., Evansville, AD82000112

Newman, M. G., Building (Additional Documentation), (Downtown Evansville MRA), 211-213 SE 4th St., Evansville, AD82000113

O'Donnell Building (Additional Documentation), (Downtown Evansville MRA), 22 NW 6th St., Evansville, AD82000115

Parson and Scoville Building (Additional Documentation), (Downtown Evansville MRA), 915 Main St., Evansville, AD82000117

Puster, L., and Company Furniture Manufactory (Additional Documentation), (Downtown Evansville MRA), 326 NW 6th St., Evansville, AD82000118

Rose Terrace (Additional Documentation), (Downtown Evansville MRA), 301-313 NW 7th St., Evansville, AD82000120

Salem's Baptist Church (Additional Documentation), (Downtown Evansville MRA), 728 Court St., Evansville, AD82000121

Siegel's Department Store (Additional Documentation), (Downtown Evansville MRA), 101-105 SE 4th St., Evansville, AD82000122

St. John's Evangelical Protestant Church (Additional Documentation), (Downtown Evansville MRA), 314 Market St., Evansville, AD82000123

Victory Theater and Hotel Sonntag (Additional Documentation), (Downtown Evansville MRA), 600-614 Main St., Evansville, AD82000124

Van Cleave Flats (Additional Documentation), (Downtown Evansville MRA), 704-708 Court St., Evansville, AD82000125

YMCA (Additional Documentation), (Downtown Evansville MRA), 203 NW 5th St., Evansville, AD82000128

Zion Evangelical Church (Additional Documentation), (Downtown Evansville MRA), 415 NW 5th St., Evansville, AD82000129

YWCA (Additional Documentation), (Downtown Evansville MRA), 118 Vine St., Evansville, AD82001853

Auto Hotel Building (Additional Documentation), (Downtown Evansville MRA), 111-115 SE 3rd St., Evansville, AD84001673

Barrett's Britz Building (Additional Documentation), (Downtown Evansville MRA), 415 Main St., Evansville, AD84001679

Fellwock Garage (Additional Documentation), (Downtown Evansville MRA), 315 Court St., Evansville, AD84001701

Firestone Tire and Rubber Store (Additional Documentation), (Downtown Evansville MRA), 900 Main St., Evansville, AD84001702

Huber Motor Sales Building (Additional Documentation), (Downtown Evansville MRA), 215-219 SE 4th St., Evansville, AD84001715

Old Fellwock Auto Company (Additional Documentation), (Downtown Evansville MRA), 214 NW 4th St., Evansville, AD84001735

Pearl Steam Laundry (Additional Documentation), (Downtown Evansville MRA), 428 Market St., Evansville, AD84001738

Roelker, John H., House (Additional Documentation), (Downtown Evansville MRA), 555 Sycamore St., Evansville, AD84001741

Kuebler-Artes Building (Additional Documentation), (Downtown Evansville MRA), 327 Main St., Evansville, AD84002895

NORTH CAROLINA

Surry County

Mount Airy Historic District (Additional Documentation), Main, Brown, Market, Franklin, W. Pine, Rockford, Worth, Cherry, and Gilmer Sts., Moore, and Hines Aves., Mount Airy, AD85002931

Wake County

St. Augustine's College Campus (Additional Documentation), Oakwood Ave., Raleigh, AD80002903

Authority: Section 60.13 of 36 CFR part 60.

Dated: August 11, 2021.
Sherry A. Frear,
Chief, National Register of Historic Places/National Historic Landmarks Program.

[FR Doc. 2021-17795 Filed 8-18-21; 8:45 am]

BILLING CODE 4312-52-P